OFFICE OF PERSONNEL MANAGEMENT

[OMB No. 3206-0150]

Submission for OMB Review; Comment Request for Revision of an Expiring Information Collection: Fingerprint Chart Standard Form 87 (SF-87) and Standard Form 87A (SF-87A)

AGENCY: Office of Personnel Management.

ACTION: Notice.

SUMMARY: In accordance with the Paperwork Reduction Act of 1995 (Pub. L. 104-13), this notice announces that the Office of Personnel Management (OPM) has submitted to the Office of Management and Budget (OMB) a request for revision of an expiring information collection (Fingerprint Charts SF-87 and SF-87A; OMB No. 3206-0150). The Fingerprint Charts are used in processing fingerprint checks submitted to the Federal Bureau of Investigation (FBI) to assist in determining whether an applicant is suitable for Federal employment or should be granted a security clearance.

The SF-87 and SF-87A are completed by applicants to, or incumbents of, Government positions, positions for the Government under contract, or by military personnel as a basis of any criminal history check to establish that such persons are suitable for employment or retention in employment, or employment or retention as a contractor.

It is estimated that 363,500 SF-87 or SF-87A inquiries are sent to individuals annually. Each form takes approximately five minutes to complete. The estimated annual burden is approximately 28,630 hours.

The Privacy Act and Public Burden language was updated to reference the applicable executive order and reflect the correct title of the forms officer for OPM, respectively.

For copies of this proposal, contact Mary Beth Smith-Toomey on (202) 606-8358, Fax (202) 418-3251 or e-mail to mbtoomey@opm.gov. Please be sure to include a mailing address with your request.

DATES: Comments on this proposal should be received within 30 calendar days from the date of this publication.

ADDRESSES: Send or deliver comments to:

Kathy Dillaman, Deputy Associate Director, Center for Federal Investigative Services, U.S. Office of Personnel Management, 1900 E. Street, Room 5416, Washington, DC 20415;

and

Joseph Lackey, Desk Officer, Office of Information and Regulatory Affairs, Office of Management and Budget, New Executive Office Building, NW., Room 10235, Washington, DC 20503.

For Information Regarding Administrative Coordination Contact: Doug Steele—Program Analyst, Program Services Group, Center for Federal Investigative Services, U.S. Office of Personnel Management, (202) 606-2325.

Dan G. Blair,
Acting Director, U.S. Office of Personnel Management.

[FR Doc. 05-3232 Filed 2-18-05; 8:45 am]

BILLING CODE 6325-38-P